DEPARTMENT OF HOMELAND SECURITY

Coast Guard

33 CFR Part 117

[CGD01-03-024]

Drawbridge Operation Regulations: Long Island, New York Inland Waterway From East Rockaway Inlet to Shinnecock Canal, NY

AGENCY: Coast Guard, DHS.

ACTION: Notice of temporary deviation from regulations.

SUMMARY: The Commander, First Coast Guard District, has issued a temporary deviation from the drawbridge operation regulations for the Wantagh State Parkway Bridge, mile 16.1, across Goose Creek at Wantagh, New York. Under this temporary deviation the bridge may remain in the closed position from 6 a.m. on April 1, 2003 through 4 p.m. on April 30, 2003. This temporary deviation is necessary to facilitate painting operations at the bridge.

DATES: This deviation is effective from April 1, 2003 through April 30, 2003.

FOR FURTHER INFORMATION CONTACT: Joseph Schmied, Project Officer, First Coast Guard District, at (212) 668-7195.

SUPPLEMENTARY INFORMATION: The Wantagh State Parkway Bridge has a vertical clearance in the closed position of 16 feet at mean high water and 19 feet at mean low water. The existing drawbridge operation regulations are listed at 33 CFR 117.799(i).

The bridge owner, New York State Department of Transportation, requested a temporary deviation from the drawbridge operation regulations to facilitate painting operations at the bridge. The bridge must remain in the closed position to perform this work.

The Coast Guard coordinated this closure with the mariners who normally use this waterway to help facilitate this necessary bridge maintenance and to minimize any disruption to the marine transportation system.

Under this temporary deviation the Wantagh State Parkway Bridge will remain in the closed position from 6 a.m. on April 1, 2003 through 4 p.m. on April 30, 2003.

This deviation from the operating regulations is authorized under 33 CFR 117.35, and will be performed with all due speed in order to return the bridge to normal operation as soon as possible.

Dated: March 28, 2003.
Vivien S. Crea,
Rear Admiral, U.S. Coast Guard, Commander, First Coast Guard District.

[FR Doc. 03-8282 Filed 4-4-03; 8:45 am]

BILLING CODE 4910-15-P